DEPARTMENT OF COMMERCE

National Oceanic and Atmospheric Administration

RIN 0648-XJ03

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held August 11 - 15, 2008.

ADDRESSES: The meetings will be held at the Hilton Key Largo, 97000 S. Overseas Hwy., Key Largo, FL 33037.

Council address: Gulf of Mexico Fishery Management Council, 2203 North Lois Avenue, Suite 1100, Tampa, FL 33607.

FOR FURTHER INFORMATION CONTACT: Richard Leard, Deputy Executive Director, Gulf of Mexico Fishery Management Council; telephone: (813) 348-1630.

SUPPLEMENTARY INFORMATION:

Council

Wednesday, August 13, 2008

3:30 p.m. - The Council meeting will begin with a review of the agenda and minutes.

The Council will review and discuss reports from the previous two days' committee meetings as follows:

3:45 p.m. - 5:30 p.m. - Ad Hoc Allocation.

6 p.m. - 7 p.m. - There will be an Open Public Question and Answer Session.

Thursday, August 14, 2008

8:30 a.m. - 12 noon - The Council will receive public testimony on exempted fishing permits (EFPs), if any; Final Reef Fish Amendment 30B; Final Amendment 8 to the Joint Spiny Lobster Fishery Management Plan (FMP). Following testimony, the Council will hold an Open Public Comment Period regarding any fishery issue of concern. People wishing to speak before the Council should complete a public comment card prior to the comment period.

1:30 p.m. - 5:30 p.m. - The Council will continue to review and discuss reports from the committee meetings as follows: Reef Fish Management; Joint Stone Crab/Spiny Lobster; Joint Reef Fish/Mackerel/Red Drum; Marine Reserves; and Administrative Policy.

Friday, August 15, 2008

The Council will continue to review and discuss reports from the committee meetings as follows:

8:30 a.m. - 9:30 a.m. - The Shrimp Management; Data Collection; Sustainable Fisheries/Ecosystem.

9:30 a.m. - 10:30 a.m. - Other Business items and the election of the Chairman and Vice Chairman. The Council will conclude its meeting at approximately 10:30 a.m.

Committees

Monday, August 11, 2008

9 a.m. - 12 p.m. & 1:30 p.m. - 5:30 p.m. - The Reef Fish Management Committee will meet to discuss Final Reef Fish Amendment 30B; Reef Fish Amendment 29; Southeast Data and Review (SEDAR) Terms of Reference (TOR) for Black Grouper; SEDAR TOR for stock Assessment Updates for Red Snapper, Gag, and Red Grouper; and Ad Hoc Recreational Red Snapper Advisory Panel (AP) Recommendations. The Council will also receive a document on changes in effort and fuel prices in the Gulf.

Tuesday, August 12, 2008

8:30 a.m. - 9:30 a.m. - The Reef Fish Management Committee will continue.

9:30 a.m. - 12 p.m. - The Administrative Policy Committee will meet to discuss Scientific and Statistical Committee (SSC) Comments on annual catch limit (ACL) and accountability measure (AM) Guidelines and Revised Statement of Organization Practices and Procedures (SOPP's).

1:30 p.m. - 3:30 p.m. - The Ad Hoc Allocation Committee will meet to discuss Fishing Communities and Social Aspects of Allocation; FMP Objectives; Net Benefits and Allocation; Landings, Total Allowable Catch (TAC) and Allocation Changes by Sector; Draft Allocation Principles and any Recommendations to the Council.

3:30 p.m. - 4:30 p.m. - The Stone Crab/Spiny Lobster Committee will meet to discuss the Final Amendment 8 to the Spiny Lobster FMP; Public Hearing Comments; Spiny Lobster AP Recommendations and Committee Recommendations.

4:30 p.m. - 5:30 p.m. - The Sustainable Fisheries/Ecosystem Committee will meet to discuss the Ecosystem SSC Recommendations.

Wednesday, August 13, 2008

8:30 a.m. - 9 a.m. - CLOSED SESSION. The Joint AP Selection Committee/Outreach & Education Committee will meet in a Closed Session to discuss Selection of Outreach & Education AP members.

9 a.m. - 11 a.m. - The Joint Reef Fish/Mackerel/Red Drum Management Committee will meet to discuss the Aquaculture FMP.

11 a.m. - 12 p.m. - The Shrimp Management Committee will meet to discuss NMFS Status and Health of the Shrimp Stocks; A Stock Assessment Report for Gulf Of Mexico Shrimp 2007; and A Biological Review of the Tortugas Pink Shrimp Fishery Through December 2007.

1:30 p.m. - 3:30 p.m. - The Data Collection Committee will meet to discuss Recommendations of the Ad Hoc Recreational Red Snapper AP and Comments on Proposed Rule for National Saltwater Angler Registry. They will also receive a status report on the MRIP.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina O'Hern at the Council (see ADDRESSES) at least 5 working days prior to the meeting.

Dated: July 10, 2008.
Tracey L. Thompson,
Acting Director, Office of Sustainable Fisheries, National Marine Fisheries Service.

[FR Doc. E8-16108 Filed 7-14-08; 8:45 am]

BILLING CODE 3510-22-S